DEPARTMENT OF ENERGY

Federal Energy Regulatory Commission

[Docket No. ER02-360-000, et al.]

UAE Lowell Power LLC, et al.; Electric Rate and Corporate Regulation Filings

November 23, 2001.

Take notice that the following filings have been made with the Commission:

1. UAE Lowell Power LLC

[Docket No. ER02-360-000]

Take notice that on November 16, 2001, UAE Lowell Power LLC (ULP), tendered for filing with the Federal Energy Regulatory Commission (Commission) a Notification of Change in Status. ULP seeks to notify the Commission that it is no longer affiliated with Duke Energy Corporation (Duke). Due to this change in affiliation with Duke, ULP is amending its Rate Schedule No. 1 to remove the Code of Conduct (Supplement No. 1 to Rate Schedule No. 1) between ULP and Duke. ULP requests an effective date of December 16, 2001 for the amendment.

Comment date: December 7, 2001, in accordance with Standard Paragraph E at the end of this notice.

2. Lowell Cogeneration Company Limited Partnership

[Docket No. ER02-361-000]

Take notice that on November 16, 2001, Lowell Cogeneration Company LP. (LCCLP) tendered for filing with the Federal Energy Regulatory Commission (Commission) a Notification of Change in Status. LCCLP seeks to notify the Commission that it is no longer affiliated with Duke Energy Corporation (Duke). Due to this change in affiliation with Duke, LCCLP is amending its Rate Schedule No. 1 to remove its Code of Conduct (Supplement No. 1 to Rate Schedule No. 1) between LLCLP and Duke. LCCLP requests an effective date of December 16, 2001 for the amendment.

Comment date: December 7, 2001, in accordance with Standard Paragraph E at the end of this notice.

3. United American Energy Corp.

[Docket No. ER02-362-000]

Take notice that on November 16, 2001, United American Energy Corp. (UAE), tendered for filing with the Federal Energy Regulatory Commission (Commission) a Notification of Change in Status. UAE seeks to notify the Commission that it is no longer affiliated with Duke Energy Corporation (Duke). Due to this change in affiliation with Duke, UAE is amending its Rate Schedule No. 1 to remove the Code of Conduct (Supplement No. 1 to Rate Schedule No. 1) between UAE and Duke. UAE requests an effective date of December 16, 2001 for the amendment.

Comment date: December 7, 2001, in accordance with Standard Paragraph E at the end of this notice.

4. Calpine Construction Finance Company, L.P.

[Docket No. ER02-363-000]

Take notice that on November 16, 2001, Calpine Construction Finance Company, L.P. (CCFC) filed a revised executed long-term power marketing agreement under which CCFC will make wholesale sales of electric energy to Calpine Energy Services, L.P. at market-based rates. CCFC requests confidential treatment of this agreement.

Comment date: December 7, 2001, in accordance with Standard Paragraph E at the end of this notice.

5. American Transmission Company LLC

[Docket No. ER02-364-000]

Take notice that on November 16, 2001, American Transmission Company LLC (ATCLLC) tendered for filing an executed Distribution-Transmission Interconnection Agreement between ATCLLC and City of Algoma.

ATCLLC requests an effective date of June 25, 2001.

Comment date: December 7, 2001, in accordance with Standard Paragraph E at the end of this notice.

6. American Transmission Company LLC

[Docket No. ER02-365-000]

Take notice that on November 16, 2001, American Transmission Company LLC (ATCLLC) tendered for filing an executed Distribution-Transmission Interconnection Agreement between ATCLLC and Rock County Electric Cooperative Association. ATCLLC requests an effective date of June 29, 2001.

Comment date: December 7, 2001, in accordance with Standard Paragraph E at the end of this notice.

7. Exelon Generation Company, LLC

[Docket No. ER02-366-000]

Take notice that on November 16, 2001, Exelon Generation Company, LLC (Exelon Generation), submitted for filing a power sales service agreement between Exelon Generation and Florida Power Corporation under Exelon Generation's wholesale power sales tariff, FERC Electric Tariff Original Volume No. 2

Comment date: December 7, 2001, in accordance with Standard Paragraph E at the end of this notice.

8. Exelon Generation Company, LLC

[Docket No. ER02-367-000]

Take notice that on November 16, 2001, Exelon Generation Company, LLC (Exelon Generation), submitted for filing a power sales service agreement between Exelon Generation and Carolina Power & Light Company under Exelon Generation's wholesale power sales tariff, FERC Electric Tariff Original Volume No. 2

Comment date: December 7, 2001, in accordance with Standard Paragraph E at the end of this notice.

9. Xcel Energy Operating Companies, Northern States Power Company, Northern States Power Company (Wisconsin)

[Docket No. ER02-368-000]

Take notice that on November 19, 2001, Northern States Power Company and Northern States Power Company (Wisconsin) (jointly NSP), wholly-owned utility operating company subsidiaries of Xcel Energy Inc., tendered for filing with the Federal Energy Regulatory Commission (FERC or Commission) a Firm Point-to-Point Transmission Service Agreement between NSP and Alliant Energy Corporate Services Inc. NSP proposes the Agreement be included in the Xcel Energy Operating Companies FERC Joint Open Access Transmission Tariff, First Revised Volume No. 1, as Service Agreement 193-NSP, pursuant to Order No. 614.

NSP requests that the Commission accept the agreement effective November 1, 2001, and requests waiver of the Commission's notice requirements in order for the agreements to be accepted for filing on the date requested.

Comment date: December 10, 2001, in accordance with Standard Paragraph E at the end of this notice.

10. California Independent System Operator Corporation

[Docket No. ER02-369-000]

Take notice that the California Independent System Operator Corporation (ISO), on November 19, 2001, tendered for filing with the Federal Energy Regulatory Commission (Commission) a Meter Service Agreement for Scheduling Coordinators between the ISO and Quiet, LLC for acceptance by the Commission. The ISO states that this filing has been served on Quiet, LLC and the California Public Utilities Commission.

The ISO is requesting waiver of the 60-day notice requirement to allow the Meter Service Agreement to be made effective as of November 6, 2001.

Comment date: December 10, 2001, in accordance with Standard Paragraph E at the end of this notice.

11. California Independent System Operator Corporation

[Docket No. ER02-370-000]

Take notice that the California Independent System Operator Corporation (ISO), on November 19, 2001, tendered for filing with the Federal Energy Regulatory Commission (Commission) a Scheduling Coordinator Agreement between the ISO and Quiet, LLC for acceptance by the Commission.The ISO states that this filing has been served on Quiet, LLC and the California Public Utilities Commission.

The ISO is requesting waiver of the 60-day notice requirement to allow the Scheduling Coordinator Agreement to be made effective as of November 6, 2001.

Comment date: December 10, 2001, in accordance with Standard Paragraph E at the end of this notice.

12. American Electric Power Service Corporations

[Docket No. ER02-371-000]

Take notice that on November 19, 2001, American Electric Power Service Corporation tendered for filing on behalf of the operating companies of the American Electric Power System (collectively, AEP), proposed amendments to the AEP Open Access transmission Tariff (OATT) and to the Transmission Coordination Agreement (TCA).

AEP requests that the amendments to the OATT be made effective in two stages. AEP requests that the stage one amendments become effective as of January 1, 2002 and that the stage two amendments to the OATT become effective as of the date AEP implements corporate separation of its facilities in the Electric Reliability Council of Texas (ERCOT). AEP requests that the amended TCA become effective as of the date AEP implements corporate separation of its facilities in the ERCOT.

Copies of the transmittal letter and the prefiled testimony have been served upon AEP's transmission customers and copies of the complete filing have been served on the public service commissions of Arkansas, Indiana, Kentucky, Louisiana, Michigan, Ohio, Tennessee, Texas, Virginia, West Virginia, and the Oklahoma Corporation Commission.

Comment date: December 10, 2001, in accordance with Standard Paragraph E at the end of this notice.

13. Entergy Services, Inc.

[Docket No. ER02-372-000]

Take notice that on November 19, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Morgan Stanley Capital Group Inc.

Comment date: December 10, 2001, in accordance with Standard Paragraph E at the end of this notice.

14. American Transmission Company LLC

[Docket No. ER02-373-000]

Take notice that on November 19, 2001, American Transmission Company LLC (ATCLLC) tendered for filing an executed Distribution-Transmission Interconnection Agreement between ATCLLC and the City of Reedsburg.

ATCLLC requests an effective date of June 19, 2001.

Comment date: December 10, 2001, in accordance with Standard Paragraph E at the end of this notice.

15. American Transmission Company LLC

[Docket No. ER02-374-000]

Take notice that on November 19, 2001, American Transmission Company LLC (ATCLLC) tendered for filing an executed Distribution-Transmission Interconnection Agreement between ATCLLC and the City of Sun Prairie.

ATCLLC requests an effective date of June 26, 2001.

Comment date: December 10, 2001, in accordance with Standard Paragraph E at the end of this notice.

16. Phelps Dodge Energy Services, LLC

[Docket No. ER02-375-000]

Take notice that on November 19, 2001, Phelps Dodge Energy Services, LLC, (PDES) filed with the Federal Energy Regulatory Commission (Commission) a letter informing the Commission of a change in the amount of capacity available to PDES that may be relevant to PDES” market-based rate authority granted by letter order on July 1, 1999. See Green Power Partners I LLC, 88 FERC ¶ 61,005 (1999).

Comment date: December 10, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-29830 Filed 11-30-01; 8:45 am]

BILLING CODE 6717-01-P